DEPARTMENT OF COMMERCE

International Trade Administration

[A-357-405]

Continuation of Antidumping Duty Order: Barbed Wire and Barbless Fencing Wire From Argentina

AGENCY: Import Administration, International Trade Administration, Department of Commerce.

ACTION: Notice of Continuation of Antidumping Duty Order: Barbed Wire and Barbless Fencing Wire From Argentina.

SUMMARY: As a result of the determinations by the Department of Commerce (“the Department”) and the International Trade Commission (“Commission”) that revocation of the antidumping duty order on Barbed Wire and Barbless Fencing Wire From Argentina would likely lead to continuation or recurrence of dumping and material injury to an industry in the United States, the Department is publishing notice of the continuation of this antidumping duty order.

EFFECTIVE DATE: September 20, 2004.

FOR CONTACT INFORMATION: Martha V. Douthit, Office of Policy, Import Administration, International Trade Administration, U.S. Department of Commerce, 14th Street and Constitution Ave., NW., Washington, DC 20230; telephone: (202) 482-5050.

SUPPLEMENTARY INFORMATION:

Background

On April 1, 2004, the Department initiated and the Commission instituted a sunset review of the antidumping duty order on Barbed Wire and Barbless Fencing Wire from Argentina, pursuant to section 751(c) of the Tariff Act of 1930, as amended (“the Act”).¹ As a result of its review, the Department found that revocation of the antidumping duty order would likely lead to continuation or recurrence of dumping and notified the Commission of the magnitude of the margins likely to prevail were the order to be revoked.²

¹ See Initiation of Five-year (“Sunset”) Reviews, 69 FR 17129 (April 1, 2004).

² See Barbed Wire and Barbless Fencing Wire From Argentina, Expedited Sunset Review of Antidumping Duty Order; 69 FR 47404 (August 5, 2004) (Final Results).

On September 3, 2004, the Commission determined pursuant to section 751(c) of the Act, that revocation of the antidumping duty order on Barbed Wire and Barbless Fencing Wire From Argentina would likely lead to continuation or recurrence of material injury to an industry in the United States within a reasonably foreseeable time.³

³ See Barbed Wire and Barbless Wire Strand From Argentina; 69 FR 53944 (September 3, 2004) and USITC Publication 3718 (August 2004), Investigation No. 731-TA-208 (Second Review).

Scope of the Order

The merchandise covered by this order is Barbed Wire and Barbless Fencing Wire From Argentina, which is currently classifiable under Harmonized Tariff Schedule (“HTS”) item number 7313.00.00. The HTS item numbers are provided for convenience and customs purposes. The written product description remains dispositive.

Determination

As a result of the determinations by the Department and the Commission that revocation of this antidumping duty order would likely lead to continuation or recurrence of dumping and material injury to an industry in the United States, pursuant to section 751(d)(2) of the Act, the Department hereby orders the continuation of the antidumping duty order on Barbed Wire and Barbless Fencing Wire From Argentina. The effective date of continuation of this order will be the date of publication in the Federal Register of this Notice of Continuation. Pursuant to sections 751(c)(2) and 751(c)(6) of the Act, the Department intends to initiate the next five-year review of this order not later than August 2009.

James J. Jochum,
Assistant Secretary for Import Administration.

[FR Doc. E4-2256 Filed 9-17-04; 8:45 am]

BILLING CODE 3510-DS-P